DEPARTMENT OF ENERGY

[GDO Docket No. EA-518]

Application for Authorization To Export Electric Energy; Altop Energy Investments LP

AGENCY: Grid Deployment Office, Department of Energy.

ACTION: Notice of application.

SUMMARY: Altop Energy Investments LP (the Applicant) has applied for authorization to transmit electric energy from the United States to Canada pursuant to the Federal Power Act.

DATES: Comments, protests, or motions to intervene must be submitted on or before December 16, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On October 15, 2024, Altop Energy Investments LP filed an application for authorization to transmit electric energy from the United States to Canada for a term of five years. App. at 1.

According to the Application, “Altop Energy Investments LP is a Delaware Limited Partnership with its principal place of business in Houston, TX.” Id. The Applicant states that it is “engaged in the trading and marketing of both financial and physical electricity in the wholesale power markets in North America.” Id. Further, the Applicant states that through its subsidiary Altop Energy Trading LLC, it has market-based rate authority from the Federal Energy Regulatory Commission. Id. Altop Energy Investments LP states it “has no obligation to serve native load, does not own or operate any electric distribution or transmission facilities, does not own or operate any natural gas distribution or transmission facilities, and does not own or operate any generation assets”. Id. Additionally, the Applicant represents that the energy to be exported will be purchased with voluntarily agreements and thus be surplus to the requirements of the selling entities and the overall electrical system and “will not impair the reliability of the grid.” Id. at 2.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning Altop Energy Investments LP Application should be clearly marked with GDO Docket No. EA-518. Additional copies are to be provided directly to Gebre-Egziabher Gebre, Altop Energy Investments LP, 440 Louisiana Street, Suite 575, Houston, TX 77002, gebre.gebre@altopenergy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on November 8, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 12, 2024.
Treena V. Garrett,
Federal Register Liaison Officer, U.S. Department of Energy.

[FR Doc. 2024-26647 Filed 11-14-24; 8:45 am]

BILLING CODE 6450-01-P